DEPARTMENT OF TRANSPORTATION

Federal Aviation Administration

14 CFR Part 39

[Docket No. FAA-2008-0657; Directorate Identifier 2007-NM-296-AD]

RIN 2120-AA64

Airworthiness Directives; Airbus Model A300, A310, and A300-600 Series Airplanes

AGENCY: Federal Aviation Administration (FAA), Department of Transportation (DOT).

ACTION: Notice of proposed rulemaking (NPRM).

SUMMARY: The FAA proposes to supersede an existing airworthiness directive (AD) that applies to certain Airbus Model A300, A310, and A300-600 series airplanes. The existing AD currently requires repetitive detailed visual inspections to detect cracks in the pylon thrust and sideload fitting of the wing, and replacement of any cracked pylon thrust and sideload fitting with a new fitting. This proposed AD would reduce the threshold and repetitive intervals for the detailed inspection for certain airplanes and would reduce the applicability of the existing AD. This proposed AD results from issuance of mandatory continuing airworthiness information by a foreign civil airworthiness authority. We are proposing this AD to detect and correct cracks in the pylon thrust and sideload fitting of the wing, which could result in reduced structural integrity of the airplane.

DATES: We must receive comments on this proposed AD by July 17, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Airbus, 1 Rond Point Maurice Bellonte, 31707 Blagnac Cedex, France.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Comments Invited

We invite you to send any written relevant data, views, or arguments about this proposed AD. Send your comments to an address listed under the ADDRESSES section. Include “Docket No. FAA-2008-0657; Directorate Identifier 2007-NM-296-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On July 24, 1998, we issued AD 98-16-11, amendment 39-10687 (63 FR 40816, July 31, 1998), for certain Airbus Model A300, A310, and A300-600 series airplanes. That AD requires repetitive detailed visual inspections to detect cracks in the pylon thrust and sideload fitting of the wing, and replacement of any cracked pylon thrust and sideload fitting with a new fitting. That AD resulted from issuance of mandatory continuing airworthiness information by a foreign civil airworthiness authority. We issued that AD to detect and correct cracks in the pylon thrust and sideload fitting of the wing, which could result in reduced structural integrity of the airplane.

Actions Since Existing AD Was Issued

Since we issued AD 98-16-11, Airbus has issued the following service bulletins:

Table.—New Service Bulletins
Airbus service bulletin— | For model—
A300-57-0232, Revision 02, dated February 21, 2000 | A300 series airplanes.
A300-57-6079, Revision 04, dated February 21, 2000 | A300-600 series airplanes.
A310-57-2075, Revision 03, dated December 1, 2006 | A310 series airplanes.

The repetitive detailed inspections and replacement procedures are essentially identical to those specified in previous issues of the service bulletins. (AD 98-16-11 refers to Airbus Service Bulletins A300-57-0232, Revision 01 (for Model A300 series airplanes); A310-57-2075, Revision 01 (for Model A310 series airplanes); and A300-57-6079, Revision 02 (for Model A300-600 series airplanes); all dated January 12, 1998; as the appropriate sources of service information for accomplishing the required actions.) Revision 03 of Airbus Service Bulletin A310-57-2075 reduces the detailed inspection thresholds and repeat intervals for certain airplanes. In addition, the effectivity listing of all three service bulletins has been revised to remove airplanes that have been scrapped. No more work is necessary for airplanes on which previous issues of the service bulletins were done.

Accomplishing the actions specified in the service information is intended to adequately address the unsafe condition. The European Aviation Safety Agency (EASA), which is the Technical Agent for the Member States of the European Community, mandated the service information and issued EASA airworthiness directive 2007-0243, dated September 4, 2007, to ensure the continued airworthiness of these airplanes in the European Union.

FAA's Determination and Requirements of the Proposed AD

These airplanes are manufactured in France and are type certificated for operation in the United States under the provisions of section 21.29 of the Federal Aviation Regulations (14 CFR 21.29) and the applicable bilateral airworthiness agreement. As described in FAA Order 8100.14A, “Interim Procedures for Working with the European Community on Airworthiness Certification and Continued Airworthiness,” dated August 12, 2005, the EASA has kept the FAA informed of the situation described above. We have examined the EASA's findings, evaluated all pertinent information, and determined that AD action is necessary for airplanes of this type design that are certificated for operation in the United States.

This proposed AD would supersede AD 98-16-11 and would continue to require, at reduced thresholds and repetitive intervals for certain airplanes, repetitive detailed visual inspections to detect cracks in the pylon thrust and sideload fitting of the wing, and would continue to require replacement of any cracked pylon thrust and sideload fitting with a new fitting. This proposed AD would also require accomplishing the actions specified in service information described previously.

Differences Between Proposed Rule and EASA AD

The proposed AD would differ from the parallel EASA airworthiness directive in that it would not allow for adjustment in compliance time based on airplane utilization. In developing an appropriate compliance time for this proposed AD, the FAA considered not only the manufacturer's recommendation, but the degree of urgency associated with addressing the subject unsafe condition, and the average utilization of the affected fleet. In light of these factors, we find the compliance times specified in paragraphs (f)(1) and (f)(2) of this proposed AD to be warranted, in that they represent an appropriate interval of time allowable for affected airplanes to continue to operate without compromising safety.

Change to Existing AD

This proposed AD would retain all requirements of AD 98-16-11. Since AD 98-16-11 was issued, the AD format has been revised, and certain paragraphs have been rearranged. As a result, the corresponding paragraph identifiers have changed in this proposed AD, as listed in the following table:

Revised Paragraph Identifiers
Requirement in AD 98-16-11 | Corresponding requirement in this proposed AD
paragraph (a) | paragraph (f).
paragraph (b) | paragraph (g).

In addition, we have revised the applicability of this proposed AD to refer to the latest revisions of the service information described previously.

We also changed all references to a “detailed visual inspection” in the existing AD to “detailed inspection” in this action.

Costs of Compliance

This proposed AD would affect about 164 Model A300, A310, and A300-600 series airplanes of U.S. registry.

The inspections that are required by AD 98-16-11 and retained in this proposed AD take about 3 work hours per airplane, at an average labor rate of $80 per work hour. Based on these figures, the estimated cost of the currently required actions is $39,360, or $240 per airplane, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-10687 (63 FR 40816, July 31, 1998) and adding the following new airworthiness directive (AD):

Airbus: Docket No. FAA-2008-0657; Directorate Identifier 2007-NM-296-AD.

Comments Due Date

(a) The FAA must receive comments on this AD action by July 17, 2008.

Affected ADs

(b) This AD supersedes AD 98-16-11.

Applicability

(c) This AD applies to Airbus airplanes identified in Table 1 of this AD, certificated in any category.

Table 1.—Applicability
Model— | As identified in Airbus service bulletin—
(1) A300 series airplanes | A300-57-0232, Revision 02, dated February 21, 2000.
(2) A310 series airplanes | A310-57-2075, Revision 03, dated December 1, 2006.
(3) A300-600 series airplanes | A300-57-6079, Revision 04, dated February 21, 2000.

Unsafe Condition

(d) This AD results from issuance of mandatory continuing airworthiness information by a foreign civil airworthiness authority. We are issuing this AD to detect and correct cracks in the pylon thrust and sideload fitting of the wing, which could result in reduced structural integrity of the airplane.

Compliance

(e) You are responsible for having the actions required by this AD performed within the compliance times specified, unless the actions have already been done.

Requirements of AD 98-16-11:

Repetitive Detailed Inspections at Reduced Thresholds and Repeat Intervals for Certain Airplanes

(f) At the applicable time specified in paragraph (f)(1) or (f)(2) of this AD: Perform a detailed inspection to detect cracks in the pylon thrust and sideload fitting of the wing, in accordance with Airbus Service Bulletin A300-57-0232, Revision 01 (for Model A300 series airplanes); A310-57-2075, Revision 01 (for Model A310 series airplanes); or A300-57-6079, Revision 02 (for Model A300-600 series airplanes); all dated January 12, 1998; as applicable; except as provided by paragraph (h) of this AD.

(1) For Model A300 and A300-600 series airplanes: Inspect prior to the accumulation of 2,800 total flight cycles, or within 18 months after September 4, 1998 (the effective date AD 98-16-11), whichever occurs later, and thereafter at intervals not to exceed 2,800 flight cycles.

(2) For Model A310 series airplanes: Inspect at the earlier of the times specified in paragraph (f)(2)(i) and (f)(2)(ii) of this AD. Repeat thereafter at the applicable intervals specified in Table 3 of this AD.

(i) Prior to the accumulation of 2,800 total flight cycles, or within 18 months after September 4, 1998, whichever occurs later.

(ii) At the applicable time specified in Table 2 of this AD.

Table 2.—Reduced Inspection Thresholds for Model A310 Series Airplanes
Model | Compliance time (whichever occurs later): Threshold | Compliance time (whichever occurs later): Grace period
A310-200 series airplanes | Before the accumulation of 1,500 total flight cycles or 3,000 total flight hours since first flight, whichever occurs first | Within 800 flight cycles or 1,600 flight hours after the effective date of this AD, whichever occurs first.
A310-300 series airplanes (short range) | Before the accumulation of 1,300 total flight cycles or 3,800 total flight hours since first flight, whichever occurs first | Within 800 flight cycles or 1,600 flight hours after the effective date of this AD, whichever occurs first.
A310-300 series airplanes (long range) | Before the accumulation of 800 total flight cycles or 4,000 total flight hours since first flight, whichever occurs first | Within 800 flight cycles or 1,600 flight hours after the effective date of this AD, whichever occurs first.

Table 3.—Reduced Repeat Intervals for Model A310 Series Airplanes
For Model— | Repeat the detailed inspection at the later of— | And, thereafter at intervals not to exceed—
A310-200 series airplanes | Within 1,500 flight cycles or 3,000 flight hours since the last detailed inspection, whichever occurs first; or within 800 flight cycles or 1,600 flight hours after the effective date of this AD, whichever occurs first | 1,500 flight cycles or 3,000 flight hours, whichever occurs first.
A310-300 series airplanes (short range) | Within 1,300 flight cycles or 3,800 flight hours since the last detailed inspection, whichever occurs first; or within 800 flight cycles or 1,600 flight hours after the effective date of this AD, whichever occurs first | 1,300 flight cycles or 3,800 flight hours, whichever occurs first.
A310-300 series airplanes (long range) | Within 800 flight cycles or 4,000 flight hours since the last detailed inspection, whichever occurs first; or within 800 flight cycles or 1,600 flight hours after the effective date of this AD, whichever occurs first | 800 flight cycles or 4,000 flight hours, whichever occurs first.

Corrective Action

(g) If any crack is detected during any inspection required by paragraph (f) of this AD, prior to further flight, replace the pylon thrust and sideload fitting with a new fitting in accordance with Airbus Service Bulletin A300-57-0232, Revision 01 (for Model A300 series airplanes); A310-57-2075, Revision 01 (for Model A310 series airplanes); or A300-57-6079, Revision 02 (for Model A300-600 series airplanes); all dated January 12, 1998; as applicable; except as provided by paragraph (h) of this AD.

New Actions Required by This AD:

New Service Information

(h) For all airplanes: As of the effective date of this AD, use only the Accomplishment Instructions of the applicable service bulletin specified in Table 4 of this AD to do the repetitive detailed inspections required by paragraph (f) of this AD and the replacement required by paragraph (g) of this AD.

Table 4.—New Service Bulletins
Airbus service bulletin— | For model—
(1) A300-57-0232, Revision 02, dated February 21, 2000 | A300 series airplanes.
(2) A300-57-6079, Revision 04, dated February 21, 2000 | A300-600 series airplanes.
(3) A310-57-2075, Revision 03, dated December 1, 2006 | A310 series airplanes.

(i) Actions done before the effective date of this AD in accordance with Airbus Service Bulletins A300-57-6079, Revision 02, dated January 12, 1998, or Revision 03, dated October 25, 1999 (for Model A300-600 series airplanes); A310-57-2075, Revision 01, dated January 12, 1998, or Revision 02, dated February 21, 2000 (for Model A310 series airplanes); or A300-57-0232, Revision 01, dated January 12, 1998 (for Model A300 series airplanes); are acceptable for compliance with the corresponding requirements of this AD.

Alternative Methods of Compliance (AMOCs)

(j) The Manager, International Branch, ANM-116, FAA, has the authority to approve AMOCs for this AD, if requested using the procedures found in 14 CFR 39.19. Send information to ATTN: Vladimir Ulyanov, Aerospace Engineer, International Branch, ANM-116, Transport Airplane Directorate, FAA, 1601 Lind Avenue, SW., Renton, Washington 98057-3356; telephone (425) 227-1138; fax (425) 227-1149. Before using any approved AMOC on any airplane to which the AMOC applies, notify your appropriate principal inspector (PI) in the FAA Flight Standards District Office (FSDO), or lacking a PI, your local FSDO.

Related Information

(k) European Aviation Safety Agency (EASA) airworthiness directive 2007-0243, dated September 4, 2007, also addresses the subject of this AD.

Issued in Renton, Washington, on June 10, 2008.
Ali Bahrami,
Manager, Transport Airplane Directorate, Aircraft Certification Service.

[FR Doc. E8-13566 Filed 6-16-08; 8:45 am]

BILLING CODE 4910-13-P